DEPARTMENT OF ENERGY

Federal Energy Regulatory Commission

Combined Notice of Filings #1

Take notice that the Commission received the following electric rate filings:

Docket Numbers: ER11-2660-001.

Applicants: Southwestern Electric Power Company.

Description: Southwestern Electric Power Company submits tariff filing per 35.17(b): 20110214 Tex-La PDF Amendment to be effective 1/1/2011.

Filed Date: 02/14/2011.

Accession Number: 20110214-5166.

Comment Date: 5 p.m. Eastern Time on Monday, March 07, 2011.

Docket Numbers: ER11-2875-000.

Applicants: PJM Interconnection, L.L.C.

Description: PJM Interconnection, L.L.C. submits tariff filing per 35.13(a)(2)(iii): MOPR Reform to be effective 4/13/2011.

Filed Date: 02/11/2011.

Accession Number: 20110211-5121.

Comment Date: 5 p.m. Eastern Time on Friday, March 04, 2011.

Docket Numbers: ER11-2876-000.

Applicants: Entergy Arkansas, Inc.

Description: Entergy Arkansas, Inc. submits tariff filing per 35.13(a)(2)(iii): OATT Ministerial Amendments to be effective 4/12/2011.

Filed Date: 02/11/2011.

Accession Number: 20110211-5122.

Comment Date: 5 p.m. Eastern Time on Friday, March 04, 2011.

Docket Numbers: ER11-2877-000.

Applicants: Southern California Edison Company.

Description: Southern California Edison Company submits tariff filing per 35.13(a)(2)(iii): Amendments to Solar Partners LGIAs SA Nos. 73, 78 and 85 to be effective 1/26/2011.

Filed Date: 02/11/2011.

Accession Number: 20110211-5130.

Comment Date: 5 p.m. Eastern Time on Friday, March 04, 2011.

Docket Numbers: ER11-2878-000.

Applicants: ISO New England Inc., Vermont Electric Power Company, Inc.

Description: ISO New England Inc. submits tariff filing per 35.13(a)(2)(iii): Sch 21 VELCO Notice of Cancellation to be effective 2/14/2011.

Filed Date: 02/14/2011.

Accession Number: 20110214-5050.

Comment Date: 5 p.m. Eastern Time on Monday, March 07, 2011.

Docket Numbers: ER11-2879-000.

Applicants: ISO New England Inc.

Description: ISO New England Inc. 2010 4th Quarter Capital Budget.

Filed Date: 02/14/2011.

Accession Number: 20110214-5051

Comment Date: 5 p.m. Eastern Time on Monday, March 07, 2011.

Docket Numbers: ER11-2880-000.

Applicants: Arizona Public Service Company.

Description: Arizona Public Service Company submits tariff filing per 35.13(a)(2)(iii): Service Agreement No. 310 between APS and Perrin Ranch Wind, LLC. to be effective 1/13/2011.

Filed Date: 02/14/2011.

Accession Number: 20110214-5144.

Comment Date: 5 p.m. Eastern Time on Monday, March 07, 2011.

Docket Numbers: ER11-2881-000.

Applicants: Southwest Power Pool, Inc.

Description: Notification of Tariff Implementation Error and Request for Limited Tariff Waiver of Southwest Power Pool, Inc.

Filed Date: 02/14/2011.

Accession Number: 20110214-5151.

Comment Date: 5 p.m. Eastern Time on Monday, March 07, 2011.

Take notice that the Commission received the following PURPA 210(m)(3) filings:

Docket Numbers: QM11-1-000.

Applicants: Public Service Electric and Gas Company.

Description: Application for relief from the mandatory purchase requirement contained in Section 292.303(a) of the Commission's Regulations of Public Service Electric and Gas Company.

Filed Date: 02/11/2011.

Accession Number: 20110211-5082.

Comment Date: 5 p.m. Eastern Time on Friday, March 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: February 14, 2011.
Nathaniel J. Davis, Sr.,
Deputy Secretary.

[FR Doc. 2011-4111 Filed 2-23-11; 8:45 am]

BILLING CODE 6717-01-P